DEPARTMENT OF DEFENSE

Department of the Army

Corps of Engineers

Intent to Prepare a Draft Environmental Impact Statement/Environmental Impact Report for a Proposed Daguerre Point Dam Fish Passage Improvement Project

AGENCY: Department of the Army, U.S. Army Corps of Engineers, DoD.

ACTION: Notice of Intent.

SUMMARY: The U.S. Army Corps of Engineers (USACE) and the California Department of Water Resources (DWR) are lead agencies preparing a joint Draft Environmental Impact Statement/Environmental Impact Report (DEIS/EIR), pursuant to the National Environmental Policy Act (NEPA) and the California Environmental Quality Act (CEQA), to evaluate the Daguerre Point Dam Fish Passage Improvement Project. The purpose of the project is to improve fish passage at Daguerre Point Dam. The project has a goal to improve upstream and downstream fish passage for native anadromous fish species at Daguerre Point Dam and contribute to overall population recovery. Additional objectives are to keep water interests whole and not increase food risk. Stakeholder meetings have identified alternatives to consider during the preparation of the environmental document.

DATES: Written comments will be accepted no later than July 25, 2002.

ADDRESSES: Submit written comments to Ted Frink, Department of Water Resources Fish Passage Improvement Program, P.O. Box 942836, Sacramento, CA 94236-0001, phone (916) 651-9630, fax (916) 651-9607.

FOR FURTHER INFORMATION CONTACT: Doug Grothe, U.S. Army Corps of Engineers, Englebright/Martis Creek Lakes, P.O. Box 6, Smartville, CA 95977, phone (530) 639-2342, fax (530) 639-2175.

SUPPLEMENTARY INFORMATION: Preliminary resource issues that have been identified and will be evaluated in the joint document include but are not limited to fish passage, water supply, sediment fate, and biological resources. In addition to No Action/No Project, four alternative concepts are being considered.

1. State-of-the-Art Fish Ladder(s)

This alternative concept would replace the two existing fish ladders with either one or two state-of-the-art ladders. Potential siting and configuration depends on engineering design considerations.

2. Notch Dam to Passable Height

This alternative concept would cut a notch out of the existing dam to a height that adult fish can successfully pass. Accumulated sediment behind the dam may be dredged or released downstream naturally.

3. Natural River Channel Bypass Around Dam

This alternative concept would create a new river channel that bypasses the existing dam. The bypass channel length and width would be determined based on engineering design considerations. Daguerre Point Dam would remain in place.

4. Dam Removal

This alternative concept would remove Daguerre Point Dam. Accumulated sediment behind the dam may be dredged or released downstream naturally. The environmental review will be conducted pursuant to NEPA and CEQA, the Endangered Species Act, and other applicable laws, to analyze potential environmental impacts of implementing each feasible alternative. The Daguerre Point Dam Preliminary Fish Passage Improvement Study completed in 2001 by the USACE is the starting point for this process. Alternatives described in this report will be re-evaluated and updated to reflect current conditions and knowledge. Public input on additional alternatives or combination of alternatives that should be considered will be sought through the scoping process.

Comments, including names and addresses of respondents, are typically made available for public review. Individual respondents may request their home addresses withheld from public disclosure. These requests would be honored to the extent allowable by law. Requests to withhold your home address must be stated prominently at the beginning of your comment letter. All submissions from organizations or businesses, and from individuals identifying themselves as representatives or officials of organizations or businesses, will be made available to the public in its entirety. A public scoping meeting for the DEIS/EIR was held on June 27, 2002 from 6:30 to 8:30 p.m., at Yuba-Sutter Chamber of Commerce (meeting room), 429 10th Street, Marysville, CA 95901. (See Dates and Addresses above for more information.)

Availability of the DEIS/EIR: The DEIS/EIR is estimated to be available in early 2003.

Luz D. Ortiz,
Army Federal Register Liaison Officer.

[FR Doc. 02-16882 Filed 7-3-02; 8:45 am]

BILLING CODE 3710-EZ-M